DEPARTMENT OF HEALTH AND HUMAN SERVICES

Centers for Disease Control and Prevention

Fees for Cruise Ship Operational Sanitation, Construction, and Renovation Inspections

AGENCY: Centers for Disease Control and Prevention (CDC), Department of Health and Human Services (HHS).

ACTION: General notice.

SUMMARY: The Centers for Disease Control and Prevention (CDC), within the Department of Health and Human Services (HHS) announces the vessel sanitation inspection fees instituted in fiscal year (FY) 2025 will continue in FY 2026 and remain in place until further notice or a modification is published. These inspections are conducted by HHS/CDC's Vessel Sanitation Program (VSP). VSP helps the cruise line industry fulfill its responsibility for developing and implementing comprehensive sanitation programs to minimize the risk for environmentally associated illnesses and hazards. Every vessel that has a foreign itinerary and carries 13 or more passengers is subject to twice-yearly unannounced operations inspections and, when necessary, reinspection.

DATES: Fiscal year (FY) 2025 fees for vessel sanitation inspections will continue in FY 2026 and remain in place until further notice.

FOR FURTHER INFORMATION CONTACT: CAPT Luis Rodriguez, Chief, Vessel Sanitation Program, National Center for Environmental Health, Centers for Disease Control and Prevention, 4770 Buford Highway NE, MS 106-6, Atlanta, Georgia 30341-3717; phone: 800-323-2132; email: vsp@cdc.gov.

SUPPLEMENTARY INFORMATION:

Purpose and Background

HHS/CDC established the Vessel Sanitation Program (VSP) in the 1970s as a cooperative activity with the cruise ship industry. VSP helps the cruise ship industry prevent and control the introduction and spread of environmentally associated illnesses and hazards on cruise ships. VSP operates under the authority of the Public Health Service Act (Section 361 of the Public Health Service Act; 42 U.S.C. 264, “Control of Communicable Diseases”). Regulations found at 42 CFR 71.41 (Foreign Quarantine—Requirements Upon Arrival at U.S. Ports: Sanitary Inspection; General Provisions) state that carriers arriving at U.S. ports from foreign areas are subject to sanitary inspections to determine potential rodent, insect, or other vermin infestations; contaminated food or water; or other sanitary conditions requiring measures to prevent introduction or spread of communicable diseases.

The fee schedule for sanitation inspections of passenger cruise ships by VSP was first published in the Federal Register on November 24, 1987 (52 FR 45019). HHS/CDC began collecting fees on March 1, 1988. The fee schedule was most recently published in the Federal Register on September 23, 2024 (89 FR 77513). This notice announces FY 2025 fees for inspections will continue in FY26 and remain in place until further notice or a modification is published. The fee schedule is presented in Appendix A.

The following formula will be used to determine the fees:

Total cost of VSP = Total cost of operating the program, such as administration, travel, staffing, sanitation inspections, and outbreak response.

Weighted number of annual inspections = Total number of ships and inspections per year accounting for vessel size, number of inspectors needed for vessel size, travel logistics to conduct inspections, and vessel location and arrivals in U.S. jurisdiction per year.

Fee

The fee schedule (Appendix A) will remain in place until further notice.

Applicability

The fees will apply to all passenger cruise vessels for which inspections are conducted as part of HHS/CDC's VSP.

Noah Aleshire,
Chief Regulatory Officer, Centers for Disease Control and Prevention.

Appendix A

Fee Schedule for Each Vessel Size
Vessel size (GT ¹) | Operational inspection ² fee (US$) | Construction and renovation inspection ³ fee (US$)
Tier 1 (<30,000 GT) | 8,073 | 16,146
Tier 2 (30,001-110,000 GT) | 16,146 | 32,292
Tier 3 (110,001-180,000 GT) | 32,292 | 64,584
Tier 4 (180,001 GT) | 64,584 | 129,168
¹ Gross tonnage in cubic feet, as shown in Lloyd's Register of Shipping (https://www.lr.org/en/).
² Operations inspections and reinspections involve the same procedures and require the same amount of time, so they are charged at the same rates.
³ Construction and renovation inspections require at least twice the amount of time as operations inspections, so they are charged double the rates.

[FR Doc. 2025-15595 Filed 8-14-25; 8:45 am]

BILLING CODE 4163-18-P